DEPARTMENT OF ENERGY

Federal Energy Regulatory Commission

[Docket No. RP03-485-002]

Honeoye Storage Corporation; Notice of Proposed Change in FERC Gas Tariff

October 2, 2003.

Take notice that on September 24, 2003, Honeoye Storage Corporation (Honeoye) tendered for filing as part of its FERC Gas Tariff, First Revised Volume 1A, one revised tariff sheet to be effective July 1, 2003. The revised tariff sheet is designated as:

Substitute Third Revised Sheet No. 105 Superceding Third Revised Sheet No. 105

Honeoye states that the purpose of this filing is to comply with the Commission's September 12, 2003 Letter Order which directed Honeoye to remove the reference to certain WGQ Standards incorporated by reference in section 11.12 of its tariff.

Honeoye states that copies of the filing are being mailed to Honeoye's jurisdictional customers and interested state regulatory agencies.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eFiling link.

Protest Date: October 6, 2003.

Magalie R. Salas,
Secretary.

[FR Doc. E3-00014 Filed 10-8-03; 8:45 am]

BILLING CODE 6717-01-P